FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202)-523-5793 or tradeanalysis@fmc.gov.

Agreement No.: 010979-065.

Agreement Name: Caribbean Shipowners Association Agreement.

Parties: Crowley Caribbean Services LLC; Hybur Ltd.; King Ocean Services Limited; Seaboard Marine, Ltd.; and Tropical Shipping and Construction Company Limited.

Filing Party: Wayne Rohde; Cozen O'Connor.

Synopsis: The amendment deletes Zim Integrated Shipping Services, Ltd. as a party to the Agreement.

Proposed Effective Date: 11/1/2018.

Location: http://fmcinet/Fmc.Agreements.Web/Public/AgreementHistory/1194.

Agreement No.: 012392-001.

Agreement Name: “K” Line/Liberty Global Line Discussion Agreement.

Parties: Kawasaki Kisen Kaisha, Ltd. and Liberty Global Logistics LLC.

Filing Party: Brooke Shapiro; Winston & Strawn LLP.

Synopsis: The amendment adds Mexico to the geographic scope of the Agreement.

Proposed Effective Date: 12/12/2018.

Location: http://fmcinet/Fmc.Agreements.Web/Public/AgreementHistory/1010.

Agreement No.: 201281.

Agreement Name: U.S. Ocean, L.L.C./Liberty Global Logistics LLC Space Charter.

Parties: U.S. Ocean, L.L.C. and Liberty Global Logistics LLC.

Filing Party: Bryant E. Gardner; Winston & Strawn LLP.

Synopsis: The Agreement authorizes the parties to charter space to/from each other in the trade between the U.S. and Germany, Belgium, Spain, Morocco, France, Italy, Greece, Turkey, Romania, Russia, Oman, United Arab Emirates, Qatar, Bahrain, Saudi Arabia, Kuwait, Iraq, Korea, Japan, China, and Australia.

Proposed Effective Date: 12/13/2018.

Location: http://fmcinet/Fmc.Agreements.Web/Public/AgreementHistory/20301.

Dated: November 2, 2018.
JoAnne O' Bryant,
Program Analyst.

[FR Doc. 2018-24356 Filed 11-6-18; 8:45 am]

BILLING CODE P